ENVIRONMENTAL PROTECTION AGENCY

[ER-FRL-9025-9]

Environmental Impact Statements; Notice of Availability

AGENCY: Office of Federal Activities, General Information (202) 564-7146 or http://www2.epa.gov/nepa.

Weekly receipt of Environmental Impact Statements (EISs)

Filed 02/29/2016 Through 03/04/2016

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160054, Final, NPS, HI, Hawaii Volcanoes National Park General Management Plan, Review Period Ends: 04/11/2016, Contact: Danielle Foster 808-985-6303

EIS No. 20160055, Draft, USFS, ID, Lookout Pass Ski Area Expansion, Comment Period Ends: 04/25/2016, Contact: Kerry Arneson 208-769-3021

EIS No. 20160056, Draft Supplement, BLM, ID, Segments 8 and 9 of the Gateway West Transmission Line Project, Comment Period Ends: 06/09/2016, Contact: Jim Stobaugh 775-861-6478

EIS No. 20160057, Final, USFS, MT, Bitterroot National Forest Travel Management Planning, Review Period Ends: 04/11/2016, Contact: Julie King 406-363-7121

EIS No. 20160058, Final, NOAA, WA, Analyze Impacts of NOAA's National Marine Fisheries Service Proposed 4(d) Determination under Limit 6 for Five Early Winter Steelhead Hatchery Programs in Puget Sound, Review Period Ends: 04/11/2016, Contact: Steve Leider 360-753-4650

Dated: March 8, 2016.
Dawn Roberts,
Management Analyst, NEPA Compliance Division, Office of Federal Activities.

[FR Doc. 2016-05538 Filed 3-10-16; 8:45 am]

BILLING CODE 6560-50-P